DEPARTMENT OF AGRICULTURE

Rural Telephone Bank

Rural Telephone Bank Board Meeting

Time and Date: 4 p.m., Monday, February 11, 2008.

Place: Sheraton New Orleans Hotel, Gallier AB Room, 500 Canal St., New Orleans, LA 70130.

Status: Open.

Matters To Be Considered: The following matters have been placed on the agenda for the Board of Directors meeting:

1. Call to Order

2. Report on the Rural Telephone Bank Dissolution:

• Secretary's Report.

• Treasurer's Report.

• Report on the Dissolution.

3. Reflections on the Rural Telephone Bank.

4. Adjournment and Closing Remarks by Under Secretary Thomas C. Dorr.

Contact Person for More Information: Jonathan Claffey, Deputy Assistant Governor and Assistant Secretary, Rural Telephone Bank, (202) 720-9554.

Dated: January 29, 2008.
James M. Andrew,
Governor, Rural Telephone Bank.

[FR Doc. E8-2042 Filed 2-4-08; 8:45 am]

BILLING CODE 3410-15-P